DEPARTMENT OF COMMERCE

National Oceanic and Atmospheric Administration

RIN 0648-XL66

Fisheries of the Caribbean, Gulf of Mexico, and South Atlantic; Regulatory Amendment to the Fishery Management Plan for the Reef Fish Resources of the Gulf of Mexico

AGENCY: National Marine Fisheries Service (NMFS), National Oceanic and Atmospheric Administration (NOAA), Commerce.

ACTION: Notice of intent (NOI) to prepare a draft environmental impact statement (DEIS); notice of scoping meetings; request for comments.

SUMMARY: NMFS, Southeast Region, in collaboration with the Gulf of Mexico Fishery Management Council (Council), intends to prepare a DEIS to describe and analyze management alternatives to be included in a regulatory action taken under the Fishery Management Plan for the Reef Fish Resources of the Gulf of Mexico (Reef Fish FMP). These alternatives will consider measures to reduce the incidental take of sea turtles by the bottom longline component of the reef fish fishery. The purpose of this NOI is to solicit public comments on the scope of issues to be addressed in the DEIS.

DATES: Written comments on the scope of issues to be addressed in the DEIS must be received by NMFS by December 26, 2008. Scoping meetings will be held in December 2008. See SUPPLEMENTARY INFORMATION for specific dates and times.

ADDRESSES: Written comments on the scope of the DEIS, suggested alternatives and potential impacts, and requests for additional information on the action should be sent to Peter Hood, NMFS, Southeast Regional Office, 263 13th Avenue South, St. Petersburg, FL 33701-5511; telephone (727) 824-5305; fax (727) 824-5308. Comments may also be sent by e-mail to 0648-XL66@noaa.gov.Requests for information packets and for sign language interpretation or other auxiliary aids should be directed to the Gulf of Mexico Fishery Management Council, 2203 North Lois Avenue, Suite 1100, Tampa, FL 33607; telephone: (813) 348-1630; fax: (813) 348-1711; Web site: www.gulfcouncil.org. Requests may also be sent by e-mail to Carrie.Simmons@gulfcouncil.org.

FOR FURTHER INFORMATION CONTACT: Peter Hood, phone: (727) 824-5305; fax: (727) 824-5308; e-mail: Peter.Hood@noaa.gov.

SUPPLEMENTARY INFORMATION: A 2005 Biological Opinion on the Gulf of Mexico (Gulf) reef fish fishery concluded the fishery's continued authorization is not likely to jeopardize the continued existence of any species listed under the Endangered Species Act (ESA). The Incidental Take Statement (ITS) anticipated takes of 85 loggerhead sea turtles over a three-year period for the bottom longline portion of the reef fish fishery and 203 loggerhead sea turtles for the entire fishery. Take was also anticipated for other sea turtle species and smalltooth sawfish.

Beginning in 2006, NMFS has required vessels participating in the Gulf reef fish fishery to carry observers if selected to participate in the observer program. Observer data is collected from reef fish vessels as well as shark bottom longline vessels that also participate in the reef fish fishery. Currently, the program covers one percent of the fishery. From July 2006 through December 2007, observers documented 16 loggerhead sea turtles and 2 unidentified hardshell sea turtles captured by longlines targeting reef fish in the eastern Gulf. Only 44 percent of captured sea turtles were released alive. Based on these data and levels of effort from logbooks, NMFS estimated 902 hardshell sea turtle takes occurred during the 18-month study period in the eastern Gulf by reef fish bottom longline vessels.

According to the ESA, reinitiation of a consultation on the effect a federal action has on listed species is necessary when “the amount or extent of taking specified in the ITS is exceeded.” The 18-month estimates from the NMFS study for bottom longlines in the eastern Gulf exceed the anticipated takes for all gear in the entire Gulf for three years. Accordingly, the Southeast Regional Office, Sustainable Fisheries Division, requested reinitiation of consultation for the Gulf reef fish fishery on September 3, 2008.

At its October 2008 meeting, the Council decided to initiate regulatory action including measures to reduce the incidental take of sea turtles by the bottom longline component of the reef fish fishery. NMFS, in collaboration with the Council, will develop a DEIS to evaluate alternatives to accomplish this reduction. Those alternatives include, but are not limited to: a “no action” alternative; alternatives to develop time/area closures; alternatives for gear or bait modification; alternatives to expand the observer program; and alternatives for effort limitation.

In accordance with NOAA's Administrative Order 216-6, Section 5.02(c), the Council has identified this preliminary range of alternatives as a means to initiate discussion for scoping purposes only. These preliminary issues may not represent the full range of issues that eventually will be evaluated in the Environmental Impact Statement.

The Council has scheduled the following scoping meetings to provide the opportunity for additional public input:

1. Tuesday, December 9, 2008 Hilton Garden Inn, 1101 US Highway 231, Panama City, FL 32405, phone: 850-392-1093;

2. Wednesday, December 10, 2008 City of Madeira Beach, 300 Municipal Drive, Madeira Beach, FL 33708, phone: 727-391-9951.

Copies of the scoping document are available from the Council or can be downloaded from the Council Web site (see ADDRESSES).

All scoping meetings will begin at 7 p.m. The meetings will be physically accessible to people with disabilities. Requests for sign language interpretation or other auxiliary aids should be directed to the Council (see ADDRESSES).

Once the DEIS associated with the regulatory action is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS will consider public comments received on the DEIS in developing the final environmental impact statement (FEIS) and before adopting final management measures for the action. NMFS will submit both the final measures and the supporting FEIS to the Secretary of Commerce (Secretary) for review as per the Magnuson-Stevens Fishery Conservation and Management Act.

Authority: 16 U.S.C. 1801 et seq.

Dated: November 20, 2008.
Emily H. Menashes,
Acting Director, Office of Sustainable Fisheries, National Marine Fisheries Service.

[FR Doc. E8-28017 Filed 11-24-08; 8:45 am]

BILLING CODE 3510-22-S